DEPARTMENT OF AGRICULTURE

Submission for OMB Review; Comment Request

January 24, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to the collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Research Service

Title: Food Stamp Nutrition Connection Resource Sharing Form.

OMB Control Number: 0518-0031.

Summary of Collection: In 2001, the United States Department of Agriculture's Food and Nutrition Service (FNS) established the Food Stamp Nutrition Connection to improve access to Food Stamp Program nutrition resources. The National Agricultural Library's Food and Nutrition Information Center (FNIC) currently develops and maintains this resource system. The voluntary “Sharing Form” would give Food Stamp nutrition education providers the opportunity to share their resources and learn about existing materials. Data collected using this form will help FNIC identify nutrition education and training resources for review and inclusion in an online database. FNS encourages, but does not require or mandate, state Food Stamp nutrition education programs to submit materials to FNIC for inclusion in the Food Stamp Nutrition Connection database.

Need and Use of the Information: FNIC will use the collected information to help build an online database of nutrition education and training materials. Food Stamp nutrition education providers could use this information to identify and obtain curricula, lesson plan, research, training tools and participant materials. The information will be collected using online and printed versions of the form. Failure to collect this information would significantly inhibit FNIC's ability to provide up-to-date information on existing nutrition education materials that are appropriate for Food Stamp nutrition education programs.

Description of Respondents: Not-for-profit institutions; Federal Government; State, Local or Tribal Government; Business or other for-profit.

Number of Respondents: 50.

Frequency of Responses: Reporting: On occasion.

Total Burden Hours: 16.

Ruth Brown,
Departmental Information Collection Clearance Officer.

[FR Doc. 05-1518 Filed 1-26-05; 8:45 am]

BILLING CODE 3410-03-M